DEPARTMENT OF HEALTH AND HUMAN SERVICES

Administration for Children and Families

Office on Trafficking in Persons; Notice of Meeting

AGENCY: Administration for Children and Families (ACF), Department of Health and Human Services.

ACTION: Announcement of meeting.

SUMMARY: Notice is hereby given, pursuant to the provisions of the Federal Advisory Committee Act (FACA) and the Preventing Sex Trafficking and Strengthening Families Act, that a meeting of the National Advisory Committee (NAC) on the Sex Trafficking of Children and Youth in the United States (Committee) will be held on September 13-14, 2018. The purpose of the meeting is for the Committee to discuss its duties and information for a draft report on recommended best practices for states to follow in combating the sex trafficking of children and youth based on multidisciplinary research and promising, evidence-based models and programs.

DATES: The meeting will be held on Thursday, September 13, 2018, from 9:00 a.m. to 5:00 p.m. ET and on Friday, September 14, 2018, from 9:00 a.m. to 1:00 p.m. ET.

ADDRESSES: The meeting will be held at 200 Independence Ave. SW, Washington, DC 20201. Space is limited. Identification will be required at the entrance of the facility (e.g., passport, state ID, or federal ID).

To attend the meeting virtually, please register for this event online: https://www.acf.hhs.gov/otip/resource/nacagenda0918.

FOR FURTHER INFORMATION CONTACT: Katherine Chon, Director, Office on Trafficking in Persons, Designated Federal Officer (DFO) at EndTrafficking@acf.hhs.gov or (202) 205-4554 or 330 C Street SW, Washington, DC 20201. Additional information is available at https://www.acf.hhs.gov/otip/partnerships/the-national-advisory-committee.

SUPPLEMENTARY INFORMATION: The formation and operation of the NAC are governed by the provisions of Public Law 92-463, as amended (5 U.S.C. App. 2), which sets forth standards for the formation and use of federal advisory committees.

Purpose of the NAC: The purpose of the NAC is to advise the Secretary and the Attorney General on practical and general policies concerning improvements to the nation's response to the sex trafficking of children and youth in the United States. The NAC is established pursuant to Section 121 of the Preventing Sex Trafficking and Strengthening Families Act of 2014 (P.L. 113-183).

Tentative Agenda: The agenda can be found at https://www.acf.hhs.gov/otip/resource/nacagenda0918.

Public Accessibility to the Meeting: Pursuant to 5 U.S.C. 552b and 41 CFR 102-3.140 through 102-3.165, and subject to the availability of space, this meeting is open to the public. Seating is on a first to arrive basis. Because the meeting of the NAC will be held at 200 Independence Ave. SW, Washington, DC 20201, security screening is required. Attendees are requested to register by submitting their name, affiliation, email address, and daytime phone number 10 business days prior to the meeting by email to: adonald@nhttac.org. A photo ID is required to enter the premises. Please note that space and parking is limited. The building is fully accessible to individuals with disabilities.

Written Comments or Statements: Pursuant to 41 CFR 102-3.105(j) and 102-3.140 and section 10(a)(3) of the FACA, the public or interested organizations may submit written comments or statements to the NAC in response to the stated agenda of the meeting or in regard to the committee's mission in general. Written comments or statements should be addressed to Katherine Chon, the NAC DFO, via email, the preferred mode of submission, at adonald@nhttac.org. The DFO will review all submitted written comments or statements and provide them to members of the NAC for consideration in advance of the meeting. Written comments or statements submitted in response to the agenda set forth in this notice must be received by the DFO at least 15 business days prior to the meeting to be considered by the NAC. Written comments or statements received after this date may not be provided to the NAC until its next meeting.

Verbal Comments or Statements: Pursuant to 41 CFR 102-3.140d, the NAC is not obligated to allow a member of the public to speak or otherwise address the NAC during the meeting. Members of the public are invited to provide verbal comments or statements during the NAC meeting only at the time and manner described below. All requests to speak or otherwise address the NAC during the meeting must be submitted to the NAC's DFO at least 15 days prior to the meeting, via email, the preferred mode of submission, at adonald@nhttac.org. The request should include a brief statement of the subject matter to be addressed by the comment and should be relevant to the stated agenda of the meeting or in regard to the NAC's mission in general. The DFO will log each request in the order received. A period near the end of the meeting will be available for verbal public comments. The time allotted will depend on the number of public comments or statements received and the NAC's agenda items. To provide time for as many people to speak as possible, speaking time for each individual will be limited to 3 minutes.

Minutes: The minutes of this meeting will be available for public review and copying within 90 days at: https://www.acf.hhs.gov/otip/partnerships/the-national-advisory-committee.

Dated: August 14, 2018.
Steven Wagner,
Acting Assistant Secretary for Children and Families.

[FR Doc. 2018-17891 Filed 8-17-18; 8:45 am]

BILLING CODE 4184-40-P